FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 19, 2018.

A. Federal Reserve Bank of Minneapolis (Mark A. Rauzi, Vice President), 90 Hennepin Avenue, Minneapolis, Minnesota 55480-0291:

1. Brian Solsrud, individually and as trustee of the Descendant's Separate Trust fbo Brian K. Solsrud under the Glenn A. Solsrud Augusta Irrevocable Trust dated December 28, 2012 and the Descendant's Separate Trust fbo Brian K. Solsrud under the Ardath K. Solsrud Augusta Irrevocable Trust dated December 28, 2012, all of North Oaks, Minnesota; and Rachel Goodell, Augusta, Wisconsin; Corinne Solsrud, Mosinee, Wisconsin; and Gregory Solsrud, Dunwoody, Georgia, each individually; to acquire voting shares of Augusta Financial Corporation and thereby indirectly acquire shares of Unity Bank, both of Augusta, Wisconsin.

2. Brian Solsrud, individually and as trustee of the Descendant's Separate Trust fbo Brian K. Solsrud under the Glenn A. Solsrud Caprice Irrevocable Trust dated December 28, 2012 and the Descendant's Separate Trust fbo Brian K. Solsrud under the Ardath K. Solsrud Caprice Irrevocable Trust dated December 28, 2012, all of North Oaks, Minnesota; and Rachel Goodell, Augusta, Wisconsin; Corinne Solsrud, Mosinee, Wisconsin; and Gregory Solsrud, Dunwoody, Georgia, each individually; to acquire voting shares of Caprice Corporation, Augusta, Wisconsin, and thereby indirectly acquire shares of Unity Bank North, Red Lake Falls, Minnesota.

B. Federal Reserve Bank of San Francisco (Gerald C. Tsai, Director, Applications and Enforcement) 101 Market Street, San Francisco, California 94105-1579:

1. Kevin Stacy Garn, Layton, Utah, Courtney Allphin, Layton, Utah, Gabe Garn, Syracuse, Utah, Jake Garn, Layton, Utah, Jordan Garn, Farmington, Utah, Talmage Garn, Salt Lake City, Utah, and Taylee Goff, Farmington, Utah; to retain voting shares of FNB Bancorp, and thereby indirectly retain voting shares of First National Bank of Layton, both of Layton, Utah.

Board of Governors of the Federal Reserve System, August 28, 2018.
Ann Misback,
Secretary of the Board.

[FR Doc. 2018-18996 Filed 8-30-18; 8:45 am]

BILLING CODE P